DEPARTMENT OF HOUSING AND URBAN DEVELOPMENT

[Docket No. FR-7077-N-15]

Privacy Act of 1974; System of Records

AGENCY: Office of Multifamily Housing, HUD.

ACTION: Rescindment of a system of records notice.

SUMMARY: The Department of the Housing and Urban Development (HUD) is issuing a public notice of its intent to rescind the Integrated Real Estate Management System (iREMS). During a routine review of Multifamily Housing system of records notices, it was determined that this system of records is no longer necessary because personally identifiable information is not used in the retrieval process of the iREMS system.

DATES: This proposed action will be effective immediately upon publication.

ADDRESSES: You may submit comments, identified by one of the following methods:

Federal e-Rulemaking Portal: http://www.regulations.gov. Follow the instructions provided on that site to submit comments electronically.

Fax: 202-619-8365.

Email: www.privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White; 451 Seventh Street SW, Room 10139; Washington, DC 20410-0001; telephone number 202-708-3054 (this is not a toll-free number). HUD welcomes and is prepared to receive calls from individuals who are deaf or hard of hearing, as well as individuals with speech or communication disabilities. To learn more about how to make an accessible telephone call, please visit https://www.fcc.gov/consumers/guides/telecommunications-relay-service-trs .

SUPPLEMENTARY INFORMATION: The Integrated Real Estate Management System (iREMs) is being provided for rescindment from the HUD Office of Multifamily Housing (MFH) system of records inventory. The SORN was identified for rescindment for the following reason: the records are not Privacy Act records. This rescindment will have no impact to the records as it pertains only to the retrievability of the records. Records in this system are stored securely electronically or on paper in secure facilities in a locked drawer behind a locker door. A description of each rescindment justification, the applicable SORN, and an account of what happened to the records is as follows:

Integrated Real Estate Management System (iREMS) is a system of systems that aggregates data from multiple sources. Personal Identifiers do not originate in iREMS. The retrievability section of the current iREMS SORN states the system can use Property Participant data such as their Taxpayer Identification number (TIN) and the participants name to retrieve a record. iREMS users are unable to retrieve a record using Property Participant personally identifiable information (PII) from the user interface. Records are retrieved mainly based on the property identification number, Federal Housing Authority (FHA) Identification Number or the contract identification number associated with the record.

SYSTEM NAME AND NUMBER:

Integrated Real Estate Management System (iREMS), HSNG.MF/HTS.01

HISTORY:

The previously published notice published in the Federal Register [Docket Number FR-5921-N-13] on August 22, 2016, at 81 FR 56684.

LaDonne White,
Chief Privacy Officer, Office of Administration.

[FR Doc. 2023-18446 Filed 8-25-23; 8:45 am]

BILLING CODE P